DEPARTMENT OF COMMERCE

National Oceanic and Atmospheric Administration

Agency Information Collection Activities; Submission to the Office of Management and Budget (OMB) for Review and Approval; Comment Request; Partner Probabilistic Snowfall Messaging Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 27, 2021.

ADDRESSES: Interested persons are invited to submit written comments to Adrienne Thomas, NOAA PRA Officer, at Adrienne.thomas@noaa.gov. Please reference OMB Control Number 0648-xxxx in the subject line of your comments. Do not submit Confidential Business Information or otherwise sensitive or protected information.

FOR FURTHER INFORMATION CONTACT: Requests for additional information or specific questions related to collection activities should be directed to Peter Rogers, Warning Coordination Meteorologist, National Weather Service Sioux Falls Weather Forecast Office, 26 Weather Lane, Sioux Falls, SD 57104, 605-330-4247, peter.rogers@noaa.gov or Dr. Julie Demuth, Project Scientist, National Center for Atmospheric Research, 3450 Mitchell Lane, Boulder, CO 80301, 303-497-8112, jdemuth@ucar.edu.

SUPPLEMENTARY INFORMATION:

I. Abstract

This is a request for a new collection of information.

For decades, the National Weather Service (NWS) has provided deterministic (i.e., single-value) snowfall forecasts or snowfall uncertainty forecasts with set, narrow ranges (i.e., 2-4, 4-6 inches). More recent advancements in model ensembles have allowed for the calculation of probabilistic snowfall information. This forecast information can be messaged in a number of ways, for example, as the probability a location will receive some amount of snowfall, or as the probability the snowfall will be within a certain range. While statistically more accurate, it is unknown if probabilistic snowfall forecasts are understood or helpful to the end user in their decision making process.

The NWS and National Center for Atmospheric Research will work together to conduct a survey across the NWS Central Region to determine different core partners' needs, preferences, understanding, and usefulness regarding probabilistic snow forecasts. Core partners of interest for this effort are emergency managers, school officials, and transportation officials. The survey will be hosted as a web-based survey through QuestionPro and will be electronically distributed to core partners by local NWS forecast offices across the Central Region in early 2022.

Results from this survey will be used to determine how probabilistic snowfall information will be used in future NWS products and services with the ultimate goal of providing information in a way that improves core partners' ability to make informed decisions for the protection of life and property.

II. Method of Collection

We will program and field the survey as web-based, using QuestionPro. All NWS Weather Forecast Offices (WFOs) in the Central Region will be invited to send the survey via email to their emergency management, transportation, and school partners. A short invitation script will be provided to all WFO Warning Coordination Meteorologists to send the survey. The survey will remain open for three weeks, and we will ask WCMs to send one reminder halfway through that period (i.e., after 10 days).

III. Data

OMB Control Number: 0648-XXXX.

Form Number(s): None.

Type of Review: Regular submission [new information collection].

Affected Public: Local (city or county), state, tribal, federal, and college/university emergency managers, local school principals, superintendents, transportation directors, and maintenance officials, and city, regional, or state transportation officials.

Estimated Number of Respondents: 300.

Estimated Time per Response: 10-12 minutes.

Estimated Total Annual Burden Hours: 60 hours.

Estimated Total Annual Cost to Public: None.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-23512 Filed 10-27-21; 8:45 am]

BILLING CODE 3510-KE-P